DEPARTMENT OF ENERGY

Federal Energy Regulatory Commission

[Docket Nos. CP21-465-000; CP21-465-001; CP21-465-002]

Driftwood Pipeline LLC; Notice of Intent To Prepare an Environmental Impact Statement for the Proposed Line 200 and Line 300 Project, Request for Comments on Environmental Issues, and Schedule for Environmental Review

The staff of the Federal Energy Regulatory Commission (FERC or Commission) will prepare an environmental impact statement (EIS) that will discuss the environmental impacts of the Line 200 and Line 300 Project (Project) involving construction and operation of facilities by Driftwood Pipeline LLC (Driftwood) in Beauregard and Calcasieu Parishes, Louisiana. The Commission will use this EIS in its decision-making process to determine whether the Project is in the public convenience and necessity. The schedule for preparation of the EIS is discussed in the Schedule for Environmental Review section of this notice.

This notice announces the opening of the scoping process the Commission will use to gather input from the public and interested agencies regarding the project. As part of the National Environmental Policy Act (NEPA) review process, the Commission takes into account concerns the public may have about proposals and the environmental impacts that could result from its action whenever it considers the issuance of a Certificate of Public Convenience and Necessity. This gathering of public input is referred to as “scoping.” The main goal of the scoping process is to focus the analysis in the environmental document on the important environmental issues. Additional information about the Commission's NEPA process is described below in the NEPA Process and the EIS section of this notice.

By this notice, the Commission requests public comments on the scope of issues to address in the environmental document, including comments on potential alternatives and impacts, and any relevant information, studies, or analyses of any kind concerning impacts affecting the quality of the human environment. To ensure that your comments are timely and properly recorded, please submit your comments so that the Commission receives them in Washington, DC on or before 5:00 p.m. Eastern Time on February 14, 2022. Comments may be submitted in written or oral form. Further details on how to submit comments are provided in the Public Participation section of this notice.

If you are a landowner receiving this notice, a pipeline company representative may contact you about the acquisition of an easement to construct, operate, and maintain the proposed facilities. The company would seek to negotiate a mutually acceptable easement agreement. You are not required to enter into an agreement. However, if the Commission approves the Project, the Natural Gas Act conveys the right of eminent domain to the company. Therefore, if you and the company do not reach an easement agreement, the pipeline company could initiate condemnation proceedings in court. In such instances, compensation would be determined by a judge in accordance with state law. The Commission does not grant, exercise, or oversee the exercise of eminent domain authority. The courts have exclusive authority to handle eminent domain cases; the Commission has no jurisdiction over these matters.

Driftwood provided landowners with a fact sheet prepared by the FERC entitled “An Interstate Natural Gas Facility On My Land? What Do I Need To Know?” which addresses typically asked questions, including the use of eminent domain and how to participate in the Commission's proceedings. This fact sheet along with other landowner topics of interest are available for viewing on the FERC website (www.ferc.gov) under the Natural Gas Questions or Landowner Topics link.

Public Participation

There are four methods you can use to submit your comments to the Commission. The Commission encourages electronic filing of comments and has staff available to assist you at (866) 208-3676 or FercOnlineSupport@ferc.gov. Please carefully follow these instructions so that your comments are properly recorded.

(1) You can file your comments electronically using the eComment feature, which is located on the Commission's website (www.ferc.gov) under the link to FERC Online. Using eComment is an easy method for submitting brief, text-only comments on a project;

(2) You can file your comments electronically by using the eFiling feature, which is located on the Commission's website (www.ferc.gov) under the link to FERC Online. With eFiling, you can provide comments in a variety of formats by attaching them as a file with your submission. New eFiling users must first create an account by clicking on “eRegister.” You will be asked to select the type of filing you are making; a comment on a particular project is considered a “Comment on a Filing”; or

(3) You can file a paper copy of your comments by mailing them to the Commission. Be sure to reference the project docket number (CP21-465-000, -001, -002) on your letter. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852.

(4) In lieu of sending written comments, the Commission invites you to attend one of the virtual public scoping session(s) its staff will conduct by telephone, scheduled as follows:

January 25 & 27, 2022

January 25, 2022

5:30 p.m.-7:30 p.m. CST

Call in number: 800-779-8625

Participant Passcode: 3472916

January 27, 2022

5:30 p.m.-7:30 p.m. CST

Call in number: 800-779-8625

Participant Passcode: 3472916

The primary goal of these scoping sessions is to have you identify the specific environmental issues and concerns that should be considered in the environmental document. Individual oral comments will be taken on a one-on-one basis with a court reporter present on the line. This format is designed to receive the maximum amount of oral comments, in a convenient way during the timeframe allotted, and is in response to the ongoing COVID-19 pandemic. No presentation will be provided, or questions answered during the session. Prospective commentors are encouraged to review Driftwood's application and supplemental filings to familiarize themselves with the Project prior to participating in the meeting. Instruction on how to access Driftwood's filings are provided in the Additional Information section of this notice. In addition to providing comments directly to FERC, parcel-specific questions can be directed to Driftwood at landowners@driftwoodpipeline.com.

Each scoping session is scheduled from 5:30 p.m. to 7:30 p.m. CST. You may call at any time after 5:30 p.m. at which time you will be placed on mute and hold. Calls will be answered in the order they are received. Once answered, you will have the opportunity to provide your comment directly to a court reporter with FERC staff or representative present on the line. A time limit of three minutes will be implemented for each commentor.

Transcripts of all comments received during the scoping sessions will be publicly available on FERC's eLibrary system (see the last page of this notice for instructions on using eLibrary).

It is important to note that the Commission provides equal consideration to all comments received, whether filed in written form or provided at a virtual scoping session.

Additionally, the Commission offers a free service called eSubscription. This service provides automatic notification of filings made to subscribed dockets, document summaries, and direct links to the documents. Go to https://www.ferc.gov/ferc-online/overview to register for eSubscription.

Summary of the Proposed Project, the Project Purpose and Need, and Expected Impacts

Driftwood proposes to construct and operate dual 42-inch-diameter natural gas pipelines originating near Ragley in Beauregard Parish, Louisiana southward to a proposed receiver facility near Carlyss in Calcasieu Parish, Louisiana. Additional facilities include one new compressor station, twelve meter stations, six mainline valves, and other aboveground facilities. The Project would provide a maximum seasonal capacity of 5.7 billion cubic feet of natural gas per day (Bcf/d) to the Lake Charles market. According to Driftwood, its Project would provide enhanced supply access, resilience, and reliability to the natural gas market in the Lake Charles area.

The Project would consist of the following facilities:

• Installation of 36.9 miles of 42-inch-diameter pipeline in Beauregard and Calcasieu Parishes, Louisiana (Line 200);

• installation of 30.8 miles of 42-inch-diameter pipeline in Beauregard and Calcasieu Parishes, Louisiana (Line 300);

• installation of the new Indian Bayou Compressor Station (up to 211,200 horsepower) of electric-driven compression in Beauregard Parish);

• installation of twelve new meter stations in Beauregard and Calcasieu Parishes;

• installation of a dual receiver facility at the terminus of Line 200 and Line 300 in Calcasieu Parish; and

• installation of six new mainline valves in Beauregard and Calcasieu Parishes.

The general location of the Project facilities is shown in appendix 1.¹

¹ The appendices referenced in this notice will not appear in the Federal Register. Copies of the appendices were sent to all those receiving this notice in the mail and are available at www.ferc.gov using the link called “eLibrary”. For instructions on connecting to eLibrary, refer to the last page of this notice. At this time, the Commission has suspended access to the Commission's Public Reference Room due to the proclamation declaring a National Emergency concerning the Novel Coronavirus Disease (COVID-19), issued by the President on March 13, 2020. For assistance, contact FERC at FERCOnlineSupport@ferc.gov or call toll free, (886) 208-3676 or TTY (202) 502-8659.

Based on the environmental information provided by Driftwood, construction of the proposed facilities would disturb about 894.7 acres of land for the aboveground facilities and the pipelines. Following construction, Driftwood would maintain about 410.3 acres for operation of the Project facilities; the remaining acreage would be restored.

Based on an initial review of Driftwood's proposal, Commission staff have identified several expected impacts that deserve attention in the EIS. The Project would impact 192 waterbodies, 169.6 acres of wetland, 304.3 acres of agriculture lands, 163.7 acres of forest and 117.3 acres of pine plantation, 84 acres of open land, and additional residential, industrial, and open lands. In addition to these Project impacts, landowners along the route may also be affected by construction and operation of the authorized Louisiana Connector Project and the Driftwood Project, and other proposed residential, road improvement, and electric utility projects. A segment of the proposed route has been identified as a low-income environmental justice community. Schools, churches, and libraries within these environmental justice communities, along with known environmental justice organizations, have been included on the Commission's environmental mailing list for the project, as further explained in the Environmental Mailing List section of this notice.

The NEPA Process and the EIS

The EIS issued by the Commission will discuss impacts that could occur as a result of the construction and operation of the proposed Project under the relevant general resource areas:

• Geology and soils;

• water resources and wetlands;

• vegetation and wildlife;

• threatened and endangered species;

• cultural resources;

• socioeconomics;

• environmental justice;

• land use;

• air quality and noise; and

• reliability and safety.

Commission staff will also make recommendations on how to lessen or avoid impacts on the various resource areas. Your comments will help Commission staff focus its analysis on the issues that may have a significant effect on the human environment.

The EIS will present Commission staff's independent analysis of the issues. Staff will prepare a draft EIS which will be issued for public comment. Commission staff will consider all timely comments received during the comment period on the draft EIS and revise the document, as necessary, before issuing a final EIS. Any draft and final EIS will be available in electronic format in the public record through eLibrary ² and the Commission's natural gas environmental documents web page (https://www.ferc.gov/industries-data/natural-gas/environment/environmental-documents). If eSubscribed, you will receive instant email notification when the environmental document is issued.

² For instructions on connecting to eLibrary, refer to the last page of this notice.

Alternatives Under Consideration

The EIS will evaluate reasonable alternatives that are technically and economically feasible and meet the purpose and need for the proposed action.³ Alternatives currently under consideration include:

³ 40 CFR 1508.1(z).

• The no-action alternative, meaning the Project is not implemented;

• the natural gas compression alternative;

• pipeline system alternatives;

• pipeline route alternatives; and

• aboveground facility site alternatives.

With this notice, the Commission requests specific comments regarding any additional potential alternatives to the proposed action or segments of the proposed action. Please focus your comments on reasonable alternatives (including alternative facility sites and pipeline routes) that meet the Project objectives, are technically and economically feasible, and avoid or lessen environmental impact. Please provide as much detail on any potential reasonable alternative as possible (e.g., maps, sketches, reasons for the alternative, comparative impacts to the proposed route) to facilitate the Commissions review of the alternative.

Consultation Under Section 106 of the National Historic Preservation Act

In accordance with the Advisory Council on Historic Preservation's implementing regulations for section 106 of the National Historic Preservation Act, the Commission is using this notice to initiate section 106 consultation for the Project with the applicable State Historic Preservation Office, and other government agencies, interested Indian tribes, and the public to solicit their views and concerns regarding the Project's potential effects on historic properties.⁴ The Project EIS will document findings on the impacts on historic properties and summarize the status of consultations under section 106.

⁴ The Advisory Council on Historic Preservation's regulations are at Title 36, Code of Federal Regulations, Part 800. Those regulations define historic properties as any prehistoric or historic district, site, building, structure, or object included in or eligible for inclusion in the National Register of Historic Places.

Schedule for Environmental Review

On June 30, 2021, the Commission issued its Notice of Application for the Project. On October 13, 2021, Driftwood filed a supplement to its Application consisting of alignment modifications, workspace adjustments, and the addition and removal of aboveground facilities. The Commission issued a Notice of Amendment to Application on October 20, 2021 which established docket number CP21-465-001. On October 29, 2021, Driftwood filed a second amendment to its application requesting an increase in the requested transportation capacity from the originally proposed nominal capacity of 4.6 billion cubic feet per day Bcf/d to a nominal capacity of 5.4 Bcf/d, with a maximum seasonal capacity of 5.7 Bcf/d. The Commission subsequently issued a Notice of Amendment to Application on November 11, 2021 which established docket number CP21-465-002.

Among other things, the Notice of Application alerted other agencies issuing federal authorizations of the requirement to complete all necessary reviews and to reach a final decision on the request for a federal authorization within 90 days of the date of issuance of the Commission staff's final EIS for the Project. This notice identifies the Commission staff's planned schedule for completion of the final EIS for the Project, which is based on an issuance of the draft EIS in May 2022.

Issuance of Notice of Availability of the final EIS—September 15, 2022

90-day Federal Authorization Decision Deadline ⁵—December 14, 2022

⁵ The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary for the final EIS, an additional notice will be provided so that the relevant agencies are kept informed of the Project's progress.

Permits and Authorizations

The table below lists the anticipated permits and authorizations for the Project required under federal law. This list may not be all-inclusive and does not preclude any permit or authorization if it is not listed here. Agencies with jurisdiction by law and/or special expertise may formally cooperate in the preparation of the Commission's EIS and may adopt the EIS to satisfy its NEPA responsibilities related to this Project. Agencies that would like to request cooperating agency status should follow the instructions for filing comments provided under the Public Participation section of this notice.

Agency | Permit
FERC | Section 7 of the Natural Gas Act.
U.S. Army Corps of Engineers | Section 404 of the Clean Water Act.
| Section 10 of the Rivers and Harbors Act of 1899.
U.S. Fish and Wildlife Service | Section 7 of Endangered Species Act Consultation.

Environmental Mailing List

This notice is being sent to the Commission's current environmental mailing list for the Project which includes federal, state, and local government representatives and agencies; elected officials; environmental and public interest groups, including environmental justice organizations; Native American Tribes; other interested parties; and local libraries and newspapers. This list also includes all affected landowners (as defined in the Commission's regulations) who are potential right-of-way grantors, whose property may be used temporarily for Project purposes, or who own homes within certain distances of aboveground facilities, and anyone who submits comments on the Project and includes a mailing address with their comments. Commission staff will update the environmental mailing list as the analysis proceeds to ensure that Commission notices related to this environmental review are sent to all individuals, organizations, and government entities interested in and/or potentially affected by the proposed Project. State and local government representatives should notify their constituents of this proposed project and encourage them to comment on their areas of concern.

If you need to make changes to your name/address, or if you would like to remove your name from the mailing list, please complete one of the following steps:

(1) Send an email to GasProject AddressChange@ferc.gov stating your request. You must include the docket number CP21-465-002 in your request. If you are requesting a change to your address, please be sure to include your name and the correct address. If you are requesting to delete your address from the mailing list, please include your name and address as it appeared on this notice. This email address is unable to accept comments.

OR

(2) Return the attached “Mailing List Update Form” (appendix 2).

Additional Information

Additional information about the Project is available from the Commission's Office of External Affairs, at (866) 208-FERC, or on the FERC website at www.ferc.gov using the eLibrary link. Click on the eLibrary link, click on “General Search” and enter the docket number in the “Docket Number” field, excluding the last three digits (i.e., CP21-465). Be sure you have selected an appropriate date range. For assistance, please contact FERC Online Support at FercOnlineSupport@ferc.gov or (866) 208-3676, or for TTY, contact (202) 502-8659. The eLibrary link also provides access to the texts of all formal documents issued by the Commission, such as orders, notices, and rulemakings.

Public sessions or site visits will be posted on the Commission's calendar located at https://www.ferc.gov/news-events/events along with other related information.

Dated: January 13, 2022.
Kimberly D. Bose,
Secretary.

[FR Doc. 2022-01039 Filed 1-19-22; 8:45 am]

BILLING CODE 6717-01-P